DEPARTMENT OF LABOR

Employment and Training Administration

Program Year (PY) 2013 Workforce Investment Act (WIA) Allotments; PY 2013 Wagner-Peyser Act Final Allotments and PY 2013 Workforce Information Grants

AGENCY: Employment and Training Administration, Labor.

ACTION: Notice.

SUMMARY: This notice announces allotments for PY 2013 for WIA Title I Youth, Adults and Dislocated Worker Activities programs; final allotments for Employment Service (ES) activities under the Wagner-Peyser Act for PY 2013 and Workforce Information Grants allotments for PY 2013. Allotments for the Work Opportunity Tax Credits will be announced separately.

WIA allotments for States and the State final allotments for the Wagner-Peyser Act are based on formulas defined in their respective statutes. The WIA allotments for the outlying areas are based on a formula determined by the Secretary of Labor (Secretary). As required by WIA section 182(d), on February 17, 2000, a notice of the discretionary formula for allocating PY 2000 funds for the outlying areas (American Samoa, Guam, Marshall Islands, Micronesia, Northern Marianas, Palau, and the Virgin Islands) was published in the Federal Register at 65 FR 8236 (February 17, 2000) which included both the rationale for the formula and methodology. The formula for PY 2013 is the same as used for PY 2000 and is described in the section on Youth Activities program allotments. Comments are invited on the formula used to allot funds to the outlying areas.

DATES: Comments on the formula used to allot funds to the outlying areas must be received by June 14, 2013.

ADDRESSES: Submit written comments to the Employment and Training Administration (ETA), Office of Financial Administration, 200 Constitution Avenue NW., Room N-4702, Washington, DC 20210, Attention: Ms. Anita Harvey, email: harvey.anita@dol.gov.

Commenters are advised that mail delivery in the Washington area may be delayed due to security concerns. Hand-delivered comments will be received at the above address. All overnight mail will be considered to be hand-delivered and must be received at the designated place by the date specified above.

Please submit your comments by only one method. The Department will not review comments received by means other than those listed above or that are received after the comment period has closed.

Comments: The Department will retain all comments on this notice and will release them upon request via email to any member of the public. The Department also will make all the comments it received available for public inspection by appointment during normal business hours at the above address. If you need assistance to review the comments, the Department will provide you with appropriate aids such as readers or print magnifiers. The Department will make copies of this notice available, upon request, in large print, Braille and electronic file on computer disk. The Department also will consider providing the notice in other formats upon request. To schedule an appointment to review the comments and/or obtain the notice in an alternative format, contact Ms. Harvey using the information listed above. The Department will retain all comments received without making any changes to the comments, including any personal information provided. The Department therefore cautions commenters not to include their personal information such as Social Security Numbers, personal addresses, telephone numbers, and email addresses in their comments; this information would be released with the comment if the comments are requested. It is the commenter's responsibility to safeguard his or her information. If the comment is submitted by email, the email addresses of the commenter will not be released.

FOR FURTHER INFORMATION CONTACT: WIA Youth Activities allotments—Evan Rosenberg at (202) 693-3593 or LaSharn Youngblood at (202) 693-3606; WIA Adult and Dislocated Worker Activities and ES final allotments—Robert Kight at (202) 693-3937; Workforce Information Grant allotments—Anthony Dais at (202) 693-2784. Individuals with hearing or speech impairments may access the telephone numbers above via TTY by calling the toll-free Federal Information Relay Service at 1-877-889-5627 (TTY/TDD).

SUPPLEMENTARY INFORMATION: The Department of Labor (Department) is announcing WIA allotments for PY 2013 for Youth Activities, Adults and Dislocated Worker Activities, Wagner-Peyser Act PY 2013 final allotments, and PY 2013 Workforce Information Grant allotments. This notice provides information on the amount of funds available during PY 2013 to States with an approved WIA Title I and Wagner-Peyser Act Strategic Plan for PY 2013, and information regarding allotments to the outlying areas.

The allotments are based on the funds appropriated in the Consolidated and Further Continuing Appropriations Act, 2013, Public Law (Pub. L.) 113-6, Divisions F and G, signed into law on March 26, 2013. The Act requires an across-the-board rescission of 0.2 percent to all Federal Fiscal Year (FY) 2013 discretionary program funding and is subject to the sequestration order required by section 251A of the Balanced Budget and Emergency Deficit Control Act, as amended. Included below are tables listing the PY 2013 allotments for programs under WIA Title I Youth Activities (Table A), Adult and Dislocated Workers Employment and Training Activities (Tables B and C, respectively), and the PY 2013 Wagner-Peyser Act final allotments (Table D). Also attached is the PY 2013 Workforce Information Grant table (Table E).

Youth Activities Allotments. PY 2013 Youth Activities funds under WIA total $781,375,289, after accounting for the 0.2 percent rescission and sequestration reductions, hereafter referred to as “the reductions.” Table A includes a breakdown of the Youth Activities program allotments for PY 2013 and provides a comparison of these allotments to PY 2012 Youth Activities allotments for all States, and outlying areas. Before determining the amount available for States, the total funding available for the outlying areas was reserved at 0.25 percent of the full amount appropriated for Youth Activities (after the reductions). On December 17, 2003, Public Law 108-188, the Compact of Free Association Amendments Act of 2003 (“the Compact”), was signed into law. The Compact provided for consolidation of WIA Title I funding, for the Marshall Islands and Micronesia into supplemental grants provided from the Department of Education's appropriation. See 48 U.S.C. 1921d(f)(1)(B)(iii). The Compact also specified that the Republic of Palau remained eligible for WIA Title I funding. See 48 USC 1921d(f)(1)(B)(ix). The Consolidated Appropriations Act, 2012 (in the Department of Education's General Provisions at Section 306 of Title III, Division F, Pub. L. 112-74) amended the Compact to extend the availability of WIA Title I funding to Palau through FY 2012. Section 1105 of the Consolidated and Further Continuing Appropriations Act, 2013, further extended the same funding to Palau through FY 2013.

Under WIA, the Secretary has discretion for determining the methodology for distributing funds to all outlying areas. The Department used the same methodology since PY 2000, i.e., funds are distributed among the remaining areas by formula based on relative share of number of unemployed, a 90 percent hold-harmless of the prior year share, a $75,000 minimum, and a 130 percent stop-gain of the prior year share. For PY 2013, the Department updated the data for the relative share calculation with data obtained from the 2010 Census for American Samoa, Guam, Commonwealth of Northern Marianas Islands, and Virgin Islands. The Department updated data for Palau from Palau's 2005 Census.

For the Native American Youth program, the total amount available is 1.5 percent of the total amount for Youth Activities, in accordance with WIA section 127. After the Department calculated the amount for the outlying areas and Native Americans, we determined that the amount available for PY 2013 allotments to the States is $767,701,222. This total amount was below the required $1 billion threshold specified in WIA section 127(b)(1)(C)(iv)(IV); therefore, as in PY 2012, the WIA additional minimum provisions were not applied, and, instead, as required by WIA, the Department used the Job Training Partnership Act (JTPA) section 202(a)(3) (as amended by section 701 of the Job Training Reform Amendments of 1992) minimums of 90 percent hold-harmless of the prior year allotment percentage and 0.25 percent State minimum floor. Also, the Department used the provision applying a 130 percent stop-gain of the prior year allotment percentage, as required by WIA. The three data factors required by WIA for the PY 2013 Youth Activities State formula allotments are:

(1) Number of unemployed for Areas of Substantial Unemployment (ASUs) averages for the 12-month period, July 2011-June 2012;

(2) Number of excess unemployed individuals or the ASU excess (depending on which is higher) averages for the same 12-month period used for ASU unemployed data; and

(3) Number of economically disadvantaged Youth (age 16 to 21, excluding college students in the workforce and military) from special tabulations of data from the American Community Survey (ACS), which the Department obtained from the Bureau in 2012. The Bureau collected the data used in the special tabulations for economically disadvantaged Youth between January 1, 2006-December 31, 2010.

Beginning with the PY 2006 allotments, States identify the ASU data for the PY 2013 allotments using special 2000 Census data based on households, obtained under ETA contract with the Census Bureau and which the Bureau of Labor Statistics (BLS) provided to States. States must continue to use the data provided in 2006 for the ASU identification process until further notice. For purposes of determining the number of economically disadvantaged Youth for the statutory within-state allocation formula, States should use the special tabulations of ACS data available at http://www.doleta.gov/budget/disadvantagedYouthAdults.cfm. See TEGL No. 21-12 for further information.

Adult Employment and Training Activities Allotments. After accounting for the 0.2 rescission and sequestration reductions, $730,624,342 is available for obligation to the States and outlying areas for PY 2013. The 0.2 rescission and sequestration reductions applied to both the FY 2013 “advance” funding (funds made available for PY 2012 on October 1, 2012) and the “regular” PY 2013 funding (available July 1, 2013). To avoid rescinding funding already allocated to States and localities, the Department fully applied the rescission and sequestration reductions from both the advance and regular appropriations to the July 1, 2013 portion of the PY 2013 allotments.

Table B shows the initial PY 2013 Adult Employment and Training Activities allotments, the reductions related to the FY 2013 Advance, the final PY 2013 allotment amounts, and a comparison of the final PY 2013 allotments to PY 2012 allotments by State. Like the Youth Activities program, the Department reserved the total available for the outlying areas at 0.25 percent of the full amount appropriated for Adult Activities after accounting for the reductions applicable to the funding available July 1, 2013 only. As discussed in the Youth Activities section above, WIA funding for the Marshall Islands and Micronesia is no longer provided; instead, funding is provided for these territories in the Department of Education's appropriation.

The Department distributed the Adult Activities funding for the remaining outlying areas (for which the distribution methodology is at the Secretary's discretion), using the same principles, formula and data as used for outlying areas for Youth Activities. After determining the amount for the outlying areas, the Department used statutory formula to distribute the remaining amount available for allotments to the States. The Department did not apply the WIA minimum provisions for the PY 2013 allotments because the total amount available for the States was below the $960 million threshold required for Adult Activities in WIA section 132(b)(1)(B)(iv)(IV). Instead, as required by WIA, the Department calculated minimum allotments using the JTPA section 202(a)(3) (as amended by section 701 of the Job Training Reform Amendments of 1992) minimums of 90 percent hold-harmless of the prior year allotment percentage and 0.25 percent State minimum floor. The Department also applied a 130 percent stop-gain of the prior year allotment percentage. The three formula data factors for the Adult Activities program are the same as those used for the Youth Activities formula, except the Department used data for the number of economically disadvantaged Adults (age 22 to 72, excluding college students in the workforce and military).

As noted above, updated data for within-State allocation formulas is available for economically disadvantaged Adults; but, for ASU calculations, States should continue to use the data BLS provided to States in October 2006.

Dislocated Worker Employment and Training Activities Allotments. A total of $1,179,657,807 is available for Dislocated Worker activities in PY 2013. The total appropriation includes formula funds for the States, while the National Reserve is used for National Emergency Grants, technical assistance and training, demonstration projects, and the outlying areas' Dislocated Worker allotments. The 0.2 rescission and sequestration reductions applied to both the FY 2013 “advance” funding (funds made available for PY 2012 on October 1, 2012) and the “regular” PY 2013 funding (available July 1, 2013). For the National Reserve funding, the Department has fully applied the rescission and sequestration reductions for the FY 2013 “advance” funding. For the Dislocated Worker State formula funds, to avoid rescinding funding already allocated to States and localities, the Department has fully applied the rescission and sequestration reductions for the advance and regular appropriations to the July 1, 2013 portion of the PY 2013 allotments. The amount available for outlying areas is $3,061,235, leaving $221,005,193 for the National Reserve. This leaves a total of $955,591,379 available for States. Like the Adult program, Table C shows the initial PY 2013 Dislocated Worker Activities fund allotments, the reductions related to the FY 2013 Advance, the final PY 2013 allotment amounts, and a comparison of the final PY 2013 allotments to PY 2012 allotments by State.

Like the Youth and Adult Activities programs, the Department reserved the total available for the outlying areas at 0.25 percent of the full amount appropriated for Dislocated Worker Activities after accounting for the reductions applicable to the funding available July 1, 2013 only. WIA funding for the Marshall Islands and Micronesia is no longer provided, as discussed above. The Department distributed the Dislocated Worker Activities funds for grants to the remaining outlying areas, over which the Secretary maintains discretion for choosing the distribution methodology, using the same pro rata share as the areas received for the PY 2013 WIA Adult Activities program, the same methodology used in PY 2012.

The three data factors required in WIA for the PY 2013 Dislocated Worker State formula allotments are:

(1) Number of unemployed, averages for the 12-month period, October 2011-September 2012;

(2) Number of excess unemployed, averages for the 12-month period, Since the Dislocated Worker Activities formula has no floor amount or hold-harmless provisions, funding changes for States directly reflect the impact of changes in unemployment related data listed above, October 2011-September 2012; and

(3) Number of long-term unemployed, averages for the 12-month period, October 2011-September 2012.

Wagner-Peyser Act ES Final Allotments. The appropriated level for PY 2013 for ES grants totals $664,183,664 (including the reductions). After determining the funding for outlying areas, the Department calculated allotments to States using the formula set forth at section 6 of the Wagner-Peyser Act (29 U.S.C. 49e). The Department based PY 2013 formula allotments on each State's share of calendar year 2012 monthly averages of the civilian labor force (CLF) and unemployment. The Secretary is required to set aside up to three percent of the total funds available for ES to ensure that each State will have sufficient resources to maintain statewide ES activities, as required under section 6(b)(4) of the Wagner-Peyser Act. In accordance with this provision, the three percent set-aside funds are included in this total allotment. The Department distributed the set-aside funds in two steps to States that have lost in their relative share of the total resources available this year from their relative share of the total resources available the previous year. In Step 1, States that have a CLF below one million and are also below the median CLF density were maintained at 100 percent of their relative share of prior year resources. ETA calculated the median CLF density based on CLF data provided by BLS for calendar year 2012. All remaining set-aside funds were distributed on a pro-rata basis in Step 2 to all other States losing in relative share from the prior year but not meeting the size and density criteria for Step 1. The distribution of ES funds (Table D) includes $662,564,615 for States, as well as $1,619,049 for outlying areas.

Under section 7 of the Wagner-Peyser Act, 10 percent of the total sums allotted to each State must be reserved for use by the Governor to provide performance incentives for ES offices, services for groups with special needs, and for the extra costs of exemplary models for delivering job services.

Workforce Information Grants Allotments. Total PY 2013 funding for Workforce Information Grants allotments to States is $31,939,520, the same as appropriated in PY 2012. The allotment figures for each State are listed in Table E. Funds are distributed by administrative formula, with a reserve of $176,655 for Guam and the Virgin Islands. Guam and the Virgin Islands allotment amounts are partially based on CLF data, which the Department updated this year with data from the 2010 Census. The Department distributes the remaining funds to the States with 40 percent distributed equally to all States and 60 percent distributed based on each State's share of CLF for the 12 months ending September 2012.

Table A—U.S. Department of Labor Employment and Training Administration WIA Youth Activities State Allotments
[Comparison of PY 2013 vs PY 2012]
State | PY 2012 | PY 2013 | Difference | Percent difference
Total | $824,353,022 | $781,375,289 | ($43,116,496) | −5.23
Alabama | 11,711,479 | 10,504,766 | (1,208,608) | −10.32
Alaska | 2,024,817 | 1,919,253 | (105,910) | −5.23
Arizona | 16,510,641 | 15,938,449 | (575,065) | −3.48
Arkansas | 6,431,994 | 6,367,716 | (65,425) | −1.02
California | 123,857,750 | 118,211,133 | (5,667,930) | −4.58
Colorado | 11,882,561 | 11,600,883 | (283,769) | −2.39
Connecticut | 8,794,724 | 8,152,502 | (643,692) | −7.32
Delaware | 2,024,817 | 1,919,253 | (105,910) | −5.23
District of Columbia | 2,323,591 | 2,074,840 | (249,125) | −10.72
Florida | 53,892,125 | 47,791,321 | (6,109,420) | −11.34
Georgia | 25,482,266 | 25,123,453 | (363,342) | −1.43
Hawaii | 2,243,958 | 2,174,842 | (69,508) | −3.10
Idaho | 4,027,145 | 3,623,538 | (404,260) | −10.04
Illinois | 32,767,678 | 33,775,763 | 1,001,995 | 3.06
Indiana | 15,457,182 | 15,696,820 | 236,808 | 1.53
Iowa | 4,962,142 | 4,671,103 | (291,882) | −5.88
Kansas | 5,511,824 | 5,304,061 | (208,719) | −3.79
Kentucky | 12,676,374 | 11,299,654 | (1,378,758) | −10.88
Louisiana | 11,409,318 | 9,733,043 | (1,678,030) | −14.71
Maine | 2,831,274 | 2,888,765 | 56,970 | 2.01
Maryland | 10,354,690 | 10,289,216 | (67,329) | −0.65
Massachusetts | 15,009,154 | 12,803,985 | (2,207,477) | −14.71
Michigan | 37,407,571 | 31,911,591 | (5,501,733) | −14.71
Minnesota | 10,523,152 | 9,841,004 | (683,923) | −6.50
Mississippi | 9,452,885 | 8,556,357 | (898,071) | −9.50
Missouri | 15,108,428 | 13,072,955 | (2,037,831) | −13.49
Montana | 2,405,630 | 2,105,266 | (300,743) | −12.50
Nebraska | 2,207,155 | 2,157,402 | (50,142) | −2.27
Nevada | 9,104,832 | 9,407,590 | 301,062 | 3.31
New Hampshire | 2,024,817 | 1,919,253 | (105,910) | −5.23
New Jersey | 20,322,861 | 21,422,496 | 1,095,773 | 5.39
New Mexico | 4,918,291 | 4,195,688 | (723,360) | −14.71
New York | 45,892,839 | 46,093,646 | 192,497 | 0.42
North Carolina | 23,736,834 | 26,575,543 | 2,833,919 | 11.94
North Dakota | 2,024,817 | 1,919,253 | (105,910) | −5.23
Ohio | 29,136,945 | 25,942,472 | (3,199,150) | −10.98
Oklahoma | 6,676,111 | 5,982,158 | (695,032) | −10.41
Oregon | 10,760,018 | 9,901,654 | (860,149) | −7.99
Pennsylvania | 28,346,353 | 27,854,861 | (496,514) | −1.75
Puerto Rico | 21,476,993 | 18,321,559 | (3,158,737) | −14.71
Rhode Island | 3,687,520 | 3,676,868 | (11,315) | −0.31
South Carolina | 12,754,206 | 12,151,961 | (604,436) | −4.74
South Dakota | 2,024,817 | 1,919,253 | (105,910) | −5.23
Tennessee | 15,784,120 | 15,045,025 | (741,807) | −4.70
Texas | 55,664,646 | 52,525,623 | (3,148,493) | −5.66
Utah | 5,347,985 | 4,562,251 | (786,557) | −14.71
Vermont | 2,024,817 | 1,919,253 | (105,910) | −5.23
Virginia | 13,020,339 | 12,509,940 | (512,655) | −3.94
Washington | 16,959,549 | 16,388,794 | (573,711) | −3.38
West Virginia | 4,577,244 | 3,904,748 | (673,200) | −14.71
Wisconsin | 12,342,748 | 12,133,146 | (211,789) | −1.72
Wyoming | 2,024,817 | 1,919,253 | (105,910) | −5.23
State Total | 809,926,844 | 767,701,222 | (42,364,033) | −5.23
American Samoa | 117,112 | 144,308 | 27,170 | 23.20
Guam | 953,260 | 813,205 | (140,201) | −14.71
Northern Marianas | 352,754 | 367,640 | 14,814 | 4.20
Palau | 75,000 | 75,000 | 0 | 0.00
Virgin Islands | 562,757 | 553,285 | (9,580) | −1.70
Outlying Areas Total | 2,060,883 | 1,953,438 | (107,797) | −5.23
Native Americans | 12,365,295 | 11,720,629 | (644,666) | −5.23

Table B—U.S. Department of Labor Employment and Training Administration WIA Adult Activities State Allotments
[Comparison of PY 2013 vs PY 2012]
State | PY 2012 | Initial PY 2013 | Sequestration and rescission on FY 2013 advance (10/1/2012 funds) | Final PY 2013 | Difference between PY 2012 and final PY 2013 | % difference
Total | $770,810,637 | $767,744,538 | ($37,120,196) | $730,624,342 | ($40,186,295) | −5.21
Alabama | 11,433,310 | 10,774,870 | (550,598) | 10,224,272 | (1,209,038) | −10.57
Alaska | 1,922,209 | 1,914,563 | (92,568) | 1,821,995 | (100,214) | −5.21
Arizona | 15,820,881 | 15,805,851 | (761,892) | 15,043,959 | (776,922) | −4.91
Arkansas | 6,067,684 | 6,397,416 | (292,204) | 6,105,212 | 37,528 | 0.62
California | 120,000,208 | 119,072,199 | (5,778,892) | 113,293,307 | (6,706,901) | −5.59
Colorado | 10,859,799 | 11,333,289 | (522,979) | 10,810,310 | (49,489) | −0.46
Connecticut | 7,932,575 | 7,863,132 | (382,012) | 7,481,120 | (451,455) | −5.69
Delaware | 1,922,209 | 1,914,563 | (92,568) | 1,821,995 | (100,214) | −5.21
District of Columbia | 1,973,348 | 1,982,458 | (95,031) | 1,887,427 | (85,921) | −4.35
Florida | 53,270,412 | 49,887,034 | (2,565,362) | 47,321,672 | (5,948,740) | −11.17
Georgia | 24,047,603 | 25,377,504 | (1,158,069) | 24,219,435 | 171,832 | 0.71
Hawaii | 2,357,815 | 2,387,081 | (113,546) | 2,273,535 | (84,280) | −3.57
Idaho | 3,566,489 | 3,541,566 | (171,753) | 3,369,813 | (196,676) | −5.51
Illinois | 30,469,621 | 33,288,438 | (1,467,336) | 31,821,102 | 1,351,481 | 4.44
Indiana | 13,618,422 | 15,009,181 | (655,827) | 14,353,354 | 734,932 | 5.40
Iowa | 3,670,939 | 3,542,671 | (176,783) | 3,365,888 | (305,051) | −8.31
Kansas | 4,614,871 | 4,711,647 | (222,240) | 4,489,407 | (125,464) | −2.72
Kentucky | 13,197,513 | 12,213,672 | (635,557) | 11,578,115 | (1,619,398) | −12.27
Louisiana | 10,605,200 | 9,506,714 | (510,718) | 8,995,996 | (1,609,204) | −15.17
Maine | 2,687,582 | 2,763,826 | (129,427) | 2,634,399 | (53,183) | −1.98
Maryland | 9,857,689 | 10,015,684 | (474,720) | 9,540,964 | (316,725) | −3.21
Massachusetts | 13,525,014 | 12,124,093 | (651,329) | 11,472,764 | (2,052,250) | −15.17
Michigan | 35,029,449 | 31,401,099 | (1,686,925) | 29,714,174 | (5,315,275) | −15.17
Minnesota | 9,134,795 | 8,895,597 | (439,908) | 8,455,689 | (679,106) | −7.43
Mississippi | 8,823,631 | 8,592,147 | (424,923) | 8,167,224 | (656,407) | −7.44
Missouri | 14,003,193 | 12,806,269 | (674,357) | 12,131,912 | (1,871,281) | −13.36
Montana | 2,348,495 | 2,106,672 | (113,097) | 1,993,575 | (354,920) | −15.11
Nebraska | 1,922,209 | 1,914,563 | (92,568) | 1,821,995 | (100,214) | −5.21
Nevada | 8,978,521 | 9,626,054 | (432,382) | 9,193,672 | 215,151 | 2.40
New Hampshire | 1,922,209 | 1,914,563 | (92,568) | 1,821,995 | (100,214) | −5.21
New Jersey | 20,260,335 | 21,816,638 | (975,684) | 20,840,954 | 580,619 | 2.87
New Mexico | 4,727,107 | 4,246,174 | (227,645) | 4,018,529 | (708,578) | −14.99
New York | 45,779,283 | 46,985,573 | (2,204,609) | 44,780,964 | (998,319) | −2.18
North Carolina | 22,178,866 | 26,699,336 | (1,068,075) | 25,631,261 | 3,452,395 | 15.57
North Dakota | 1,922,209 | 1,914,563 | (92,568) | 1,821,995 | (100,214) | −5.21
Ohio | 27,089,923 | 25,306,837 | (1,304,579) | 24,002,258 | (3,087,665) | −11.40
Oklahoma | 6,289,462 | 6,077,467 | (302,884) | 5,774,583 | (514,879) | −8.19
Oregon | 10,151,677 | 9,984,353 | (488,878) | 9,495,475 | (656,202) | −6.46
Pennsylvania | 26,000,980 | 26,635,263 | (1,252,138) | 25,383,125 | (617,855) | −2.38
Puerto Rico | 22,849,985 | 20,483,184 | (1,100,395) | 19,382,789 | (3,467,196) | −15.17
Rhode Island | 3,182,636 | 3,350,098 | (153,267) | 3,196,831 | 14,195 | 0.45
South Carolina | 12,076,612 | 12,328,323 | (581,578) | 11,746,745 | (329,867) | −2.73
South Dakota | 1,922,209 | 1,914,563 | (92,568) | 1,821,995 | (100,214) | −5.21
Tennessee | 15,406,376 | 15,445,870 | (741,930) | 14,703,940 | (702,436) | −4.56
Texas | 52,386,229 | 52,667,569 | (2,522,782) | 50,144,787 | (2,241,442) | −4.28
Utah | 4,258,913 | 3,930,694 | (205,098) | 3,725,596 | (533,317) | −12.52
Vermont | 1,922,209 | 1,914,563 | (92,568) | 1,821,995 | (100,214) | −5.21
Virginia | 11,977,315 | 12,223,912 | (576,796) | 11,647,116 | (330,199) | −2.76
Washington | 15,738,264 | 16,105,423 | (757,913) | 15,347,510 | (390,754) | −2.48
West Virginia | 4,670,162 | 4,186,427 | (224,903) | 3,961,524 | (708,638) | −15.17
Wisconsin | 10,586,754 | 11,009,368 | (509,830) | 10,499,538 | (87,216) | −0.82
Wyoming | 1,922,209 | 1,914,563 | (92,568) | 1,821,995 | (100,214) | −5.21
State Total | 768,883,610 | 765,825,177 | (37,027,395) | 728,797,782 | (40,085,828) | −5.21
American Samoa | 109,218 | 141,419 | (5,260) | 136,159 | 26,941 | 24.67
Guam | 889,007 | 796,923 | (42,812) | 754,111 | (134,896) | −15.17
Northern Marianas | 328,977 | 361,690 | (15,843) | 345,847 | 16,870 | 5.13
Palau | 75,000 | 75,000 | (3,612) | 71,388 | (3,612) | −4.82
Virgin Islands | 524,825 | 544,329 | (25,274) | 519,055 | (5,770) | −1.10
Outlying Areas Total | 1,927,027 | 1,919,361 | (92,801) | 1,826,560 | (100,467) | −5.21

Table C—U.S. Department of Labor Employment and Training Administration WIA Dislocated Worker Activities State Allotments
[Comparison of PY 2013 vs PY 2012]
State | PY 2012 | Initial PY 2013 | Sequestration and rescission on FY 2013 advance (10/1/2012 funds) | Final PY 2013 | Difference between PY 2012 and final PY 2013 | Percent Difference
Total | $1,232,217,892 | $1,224,493,999 | ($44,836,192) | $1,179,657,807 | ($52,560,085) | −4.27
Alabama | 15,469,879 | 13,143,816 | (688,002) | 12,455,814 | (3,014,065) | −19.48
Alaska | 1,617,337 | 1,774,247 | (71,929) | 1,702,318 | 84,981 | 5.25
Arizona | 21,499,925 | 19,289,363 | (956,180) | 18,333,183 | (3,166,742) | −14.73
Arkansas | 7,022,211 | 7,193,377 | (312,303) | 6,881,074 | (141,137) | −2.01
California | 167,279,720 | 170,422,395 | (7,439,542) | 162,982,853 | (4,296,867) | −2.57
Colorado | 16,138,114 | 16,390,208 | (717,721) | 15,672,487 | (465,627) | −2.89
Connecticut | 12,425,813 | 12,465,716 | (552,621) | 11,913,095 | (512,718) | −4.13
Delaware | 2,364,143 | 2,241,532 | (105,142) | 2,136,390 | (227,753) | −9.63
District of Columbia | 2,584,544 | 2,848,708 | (114,944) | 2,733,764 | 149,220 | 5.77
Florida | 77,488,229 | 70,555,560 | (3,446,185) | 67,109,375 | (10,378,854) | −13.39
Georgia | 36,619,541 | 35,530,708 | (1,628,605) | 33,902,103 | (2,717,438) | −7.42
Hawaii | 2,544,104 | 2,771,633 | (113,146) | 2,658,487 | 114,383 | 4.50
Idaho | 4,848,656 | 4,329,125 | (215,638) | 4,113,487 | (735,169) | −15.16
Illinois | 45,174,858 | 49,424,238 | (2,009,091) | 47,415,147 | 2,240,289 | 4.96
Indiana | 19,764,183 | 20,089,936 | (878,986) | 19,210,950 | (553,233) | −2.80
Iowa | 5,396,211 | 4,719,599 | (239,989) | 4,479,610 | (916,601) | −16.99
Kansas | 6,269,130 | 5,523,142 | (278,811) | 5,244,331 | (1,024,799) | −16.35
Kentucky | 14,426,545 | 13,312,075 | (641,601) | 12,670,474 | (1,756,071) | −12.17
Louisiana | 10,053,020 | 10,790,496 | (447,095) | 10,343,401 | 290,381 | 2.89
Maine | 3,411,860 | 3,710,044 | (151,738) | 3,558,306 | 146,446 | 4.29
Maryland | 13,446,336 | 14,758,342 | (598,008) | 14,160,334 | 713,998 | 5.31
Massachusetts | 18,123,153 | 15,492,951 | (806,003) | 14,686,948 | (3,436,205) | −18.96
Michigan | 37,950,243 | 33,519,750 | (1,687,786) | 31,831,964 | (6,118,279) | −16.12
Minnesota | 12,016,430 | 10,111,496 | (534,415) | 9,577,081 | (2,439,349) | −20.30
Mississippi | 10,347,245 | 10,182,193 | (460,180) | 9,722,013 | (625,232) | −6.04
Missouri | 19,339,341 | 15,732,664 | (860,091) | 14,872,573 | (4,466,768) | −23.10
Montana | 2,228,454 | 1,919,192 | (99,108) | 1,820,084 | (408,370) | −18.33
Nebraska | 1,769,045 | 1,858,504 | (78,676) | 1,779,828 | 10,783 | 0.61
Nevada | 14,404,698 | 14,631,230 | (640,630) | 13,990,600 | (414,098) | −2.87
New Hampshire | 2,023,863 | 2,282,021 | (90,009) | 2,192,012 | 168,149 | 8.31
New Jersey | 30,891,644 | 35,654,527 | (1,373,865) | 34,280,662 | 3,389,018 | 10.97
New Mexico | 4,691,620 | 4,595,739 | (208,654) | 4,387,085 | (304,535) | −6.49
New York | 53,040,830 | 66,651,917 | (2,358,920) | 64,292,997 | 11,252,167 | 21.21
North Carolina | 33,775,540 | 37,856,507 | (1,502,122) | 36,354,385 | 2,578,845 | 7.64
North Dakota | 491,586 | 488,019 | (21,863) | 466,156 | (25,430) | −5.17
Ohio | 37,410,700 | 31,511,888 | (1,663,791) | 29,848,097 | (7,562,603) | −20.22
Oklahoma | 5,818,181 | 5,489,616 | (258,756) | 5,230,860 | (587,321) | −10.09
Oregon | 14,179,357 | 13,175,362 | (630,608) | 12,544,754 | (1,634,603) | −11.53
Pennsylvania | 33,628,882 | 36,753,112 | (1,495,600) | 35,257,512 | 1,628,630 | 4.84
Puerto Rico | 13,792,527 | 14,271,193 | (613,404) | 13,657,789 | (134,738) | −0.98
Rhode Island | 4,729,397 | 5,281,630 | (210,334) | 5,071,296 | 341,899 | 7.23
South Carolina | 17,247,928 | 16,220,200 | (767,079) | 15,453,121 | (1,794,807) | −10.41
South Dakota | 914,615 | 758,427 | (40,676) | 717,751 | (196,864) | −21.52
Tennessee | 21,002,405 | 19,051,046 | (934,054) | 18,116,992 | (2,885,413) | −13.74
Texas | 65,045,270 | 61,165,151 | (2,892,802) | 58,272,349 | (6,772,921) | −10.41
Utah | 6,236,314 | 4,576,801 | (277,352) | 4,299,449 | (1,936,865) | −31.06
Vermont | 1,060,351 | 911,298 | (47,158) | 864,140 | (196,211) | −18.50
Virginia | 16,429,934 | 16,371,344 | (730,699) | 15,640,645 | (789,289) | −4.80
Washington | 22,715,887 | 22,486,699 | (1,010,259) | 21,476,440 | (1,239,447) | −5.46
West Virginia | 4,805,556 | 4,206,385 | (213,721) | 3,992,664 | (812,892) | −16.92
Wisconsin | 15,286,735 | 15,028,877 | (679,857) | 14,349,020 | (937,715) | −6.13
Wyoming | 909,374 | 907,572 | (40,443) | 867,129 | (42,245) | −4.65
State Total | 1,008,151,464 | 1,000,427,571 | (44,836,192) | 955,591,379 | (52,560,085) | −5.21
American Samoa | 174,596 | 225,553 | 0 | 225,553 | 50,957 | 29.19
Guam | 1,421,166 | 1,271,032 | 0 | 1,271,032 | (150,134) | −10.56
Northern Marianas | 525,903 | 576,868 | 0 | 576,868 | 50,965 | 9.69
Palau | 119,895 | 119,619 | 0 | 119,619 | (276) | −0.23
Virgin Islands | 838,985 | 868,163 | 0 | 868,163 | 29,178 | 3.48
Outlying Areas Total | 3,080,545 | 3,061,235 | 0 | 3,061,235 | (19,310) | −0.63
National Reserve | 220,985,883 | 221,005,193 | 0 | 221,005,193 | 19,310 | 0.01

Table D—U.S. Department of Labor Employment and Training Administration Employment Service (Wagner-Peyser)
[PY 2013 vs PY 2012 Final Allotments]
State | Final PY 2012 | Final PY 2013 | Difference | Percent difference
Total | $700,841,900 | $664,183,664 | ($36,658,236) | −5.23
Alabama | 9,114,728 | 8,569,344 | (545,384) | −5.98
Alaska | 7,618,486 | 7,219,993 | (398,493) | −5.23
Arizona | 13,416,510 | 12,527,937 | (888,573) | −6.62
Arkansas | 5,641,422 | 5,322,835 | (318,587) | −5.65
California | 83,874,952 | 79,878,737 | (3,996,215) | −4.76
Colorado | 11,123,996 | 10,701,027 | (422,969) | −3.80
Connecticut | 7,886,732 | 7,579,931 | (306,801) | −3.89
Delaware | 1,957,574 | 1,855,181 | (102,393) | −5.23
District of Columbia | 2,361,773 | 2,168,988 | (192,785) | −8.16
Florida | 41,597,929 | 38,965,509 | (2,632,420) | −6.33
Georgia | 20,518,463 | 19,478,108 | (1,040,355) | −5.07
Hawaii | 2,474,455 | 2,343,342 | (131,113) | −5.30
Idaho | 6,347,555 | 6,015,540 | (332,015) | −5.23
Illinois | 28,905,034 | 27,258,028 | (1,647,006) | −5.70
Indiana | 13,614,524 | 12,822,043 | (792,481) | −5.82
Iowa | 6,439,570 | 6,011,854 | (427,716) | −6.64
Kansas | 5,924,673 | 5,554,935 | (369,738) | −6.24
Kentucky | 9,063,496 | 8,512,743 | (550,753) | −6.08
Louisiana | 8,712,855 | 8,134,111 | (578,744) | −6.64
Maine | 3,774,830 | 3,577,384 | (197,446) | −5.23
Maryland | 11,687,183 | 11,522,943 | (164,240) | −1.41
Massachusetts | 14,148,935 | 13,248,486 | (900,449) | −6.36
Michigan | 23,547,173 | 21,625,084 | (1,922,089) | −8.16
Minnesota | 11,868,691 | 11,084,590 | (784,101) | −6.61
Mississippi | 6,118,274 | 5,719,384 | (398,890) | −6.52
Missouri | 12,837,723 | 11,976,795 | (860,928) | −6.71
Montana | 5,187,254 | 4,915,929 | (271,325) | −5.23
Nebraska | 6,234,060 | 5,725,191 | (508,869) | −8.16
Nevada | 6,505,421 | 6,161,654 | (343,767) | −5.28
New Hampshire | 2,803,840 | 2,642,832 | (161,008) | −5.74
New Jersey | 19,163,297 | 19,163,183 | (114) | 0.00
New Mexico | 5,821,012 | 5,516,538 | (304,474) | −5.23
New York | 39,748,915 | 38,535,164 | (1,213,751) | −3.05
North Carolina | 19,836,199 | 19,585,198 | (251,001) | −1.27
North Dakota | 5,282,176 | 5,005,887 | (276,289) | −5.23
Ohio | 25,946,567 | 23,954,983 | (1,991,584) | −7.68
Oklahoma | 6,779,019 | 6,384,955 | (394,064) | −5.81
Oregon | 8,758,927 | 8,218,324 | (540,603) | −6.17
Pennsylvania | 26,310,462 | 25,228,309 | (1,082,153) | −4.11
Puerto Rico | 7,686,516 | 7,059,087 | (627,429) | −8.16
Rhode Island | 2,618,648 | 2,471,893 | (146,755) | −5.60
South Carolina | 9,785,215 | 9,156,659 | (628,556) | −6.42
South Dakota | 4,881,946 | 4,626,591 | (255,355) | −5.23
Tennessee | 13,308,517 | 12,520,213 | (788,304) | −5.92
Texas | 49,945,739 | 47,277,917 | (2,667,822) | −5.34
Utah | 7,113,078 | 6,532,457 | (580,621) | −8.16
Vermont | 2,286,981 | 2,167,358 | (119,623) | −5.23
Virginia | 15,905,779 | 15,425,187 | (480,592) | −3.02
Washington | 14,673,520 | 13,893,830 | (779,690) | −5.31
West Virginia | 5,587,868 | 5,295,589 | (292,279) | −5.23
Wisconsin | 12,597,349 | 11,835,302 | (762,047) | −6.05
Wyoming | 3,787,650 | 3,589,533 | (198,117) | −5.23
State Total | 699,133,491 | 662,564,615 | (36,568,876) | −5.23
Guam | 327,940 | 310,787 | (17,153) | −5.23
Virgin Islands | 1,380,469 | 1,308,262 | (72,207) | −5.23
Outlying Areas Total | 1,708,409 | 1,619,049 | (89,360) | −5.23

Table E—U.S. Department of Labor Employment and Training Administration Workforce Information Grants to States
[PY 2013 vs PY 2012 allotments]
State | PY 2012 | PY 2013 | Difference | Percent difference
Total | $31,939,520 | $31,939,520 | $0 | 0.00
Alabama | 508,082 | 507,498 | (584) | −0.11
Alaska | 289,182 | 289,152 | (30) | −0.01
Arizona | 634,754 | 611,887 | (22,867) | −3.60
Arkansas | 411,636 | 413,051 | 1,415 | 0.34
California | 2,471,363 | 2,494,284 | 22,921 | 0.93
Colorado | 574,272 | 577,616 | 3,344 | 0.58
Connecticut | 476,928 | 477,665 | 737 | 0.15
Delaware | 296,619 | 298,044 | 1,425 | 0.48
District of Columbia | 285,345 | 287,102 | 1,757 | 0.62
Florida | 1,382,267 | 1,377,539 | (4,728) | −0.34
Georgia | 822,490 | 824,786 | 2,296 | 0.28
Hawaii | 322,178 | 324,046 | 1,868 | 0.58
Idaho | 338,014 | 339,198 | 1,184 | 0.35
Illinois | 1,059,262 | 1,048,080 | (11,182) | −1.06
Indiana | 628,745 | 633,362 | 4,617 | 0.73
Iowa | 450,398 | 446,571 | (3,827) | −0.85
Kansas | 429,282 | 427,285 | (1,997) | −0.47
Kentucky | 503,058 | 496,768 | (6,290) | −1.25
Louisiana | 498,490 | 496,842 | (1,648) | −0.33
Maine | 330,165 | 330,683 | 518 | 0.16
Maryland | 611,479 | 620,509 | 9,030 | 1.48
Massachusetts | 674,268 | 666,310 | (7,958) | −1.18
Michigan | 826,454 | 812,448 | (14,006) | −1.69
Minnesota | 610,066 | 607,376 | (2,690) | −0.44
Mississippi | 409,097 | 407,924 | (1,173) | −0.29
Missouri | 616,486 | 612,833 | (3,653) | −0.59
Montana | 305,900 | 306,346 | 446 | 0.15
Nebraska | 365,623 | 368,239 | 2,616 | 0.72
Nevada | 406,858 | 411,657 | 4,799 | 1.18
New Hampshire | 335,775 | 334,747 | (1,028) | −0.31
New Jersey | 797,757 | 803,433 | 5,676 | 0.71
New Mexico | 360,655 | 357,589 | (3,066) | −0.85
New York | 1,421,421 | 1,408,967 | (12,454) | −0.88
North Carolina | 796,599 | 814,453 | 17,854 | 2.24
North Dakota | 290,251 | 291,774 | 1,523 | 0.52
Ohio | 968,454 | 950,865 | (17,589) | −1.82
Oklahoma | 458,559 | 463,255 | 4,696 | 1.02
Oregon | 489,737 | 486,746 | (2,991) | −0.61
Pennsylvania | 1,024,530 | 1,030,074 | 5,544 | 0.54
Puerto Rico | 401,448 | 400,028 | (1,420) | −0.35
Rhode Island | 314,447 | 312,502 | (1,945) | −0.62
South Carolina | 510,204 | 506,743 | (3,461) | −0.68
South Dakota | 299,393 | 298,818 | (575) | −0.19
Tennessee | 626,347 | 624,764 | (1,583) | −0.25
Texas | 1,751,537 | 1,778,866 | 27,329 | 1.56
Utah | 410,985 | 408,422 | (2,563) | −0.62
Vermont | 288,917 | 288,122 | (795) | −0.28
Virginia | 761,294 | 773,526 | 12,232 | 1.61
Washington | 674,609 | 671,854 | (2,755) | −0.41
West Virginia | 340,288 | 342,244 | 1,956 | 0.57
Wisconsin | 620,620 | 618,228 | (2,392) | −0.39
Wyoming | 280,277 | 281,744 | 1,467 | 0.52
State Total | 31,762,865 | 31,762,865 | 0 | 0.00
Guam | 92,818 | 93,009 | 191 | 0.21
Virgin Islands | 83,837 | 83,646 | (191) | −0.23
Outlying Areas Total | 176,655 | 176,655 | 0 | 0.00

Signed at Washington, DC, on this 7th day of May, 2013.
Jane Oates,
Assistant Secretary.

[FR Doc. 2013-11475 Filed 5-14-13; 8:45 am]

BILLING CODE 4510-FN-P